OFFICE OF PERSONNEL MANAGEMENT

Submission for OMB Review; Comment Request for a Revised Information Collection: SF 15, Application for 10-Point Veteran Preference

AGENCY: Office of Personnel Management.

ACTION: Notice.

SUMMARY: In accordance with the Paperwork Reduction Act of 1995 (Pub. L. 104-13, May 22, 1995), this notice announces that the Office of Personnel Management (OPM) submitted to the Office of Management and Budget (OMB) a request for a revised information collection. The Application for 10-Point Veteran Preference (Standard Form 15) is used by agencies, OPM examining offices, and agency appointing officials to adjudicate individuals' claims for veterans' preference in accordance with the Veterans' Preference Act of 1944. OPM will update the form to eliminate references to the defunct Federal Personnel Manual and Standard Form 171 (Application for Federal Employment), as well as to reflect revisions to forms issued by the Department of Veterans Affairs that document service-connected disabilities.

Approximately 4,500 forms are completed annually. Each form takes approximately 10 minutes to complete. The annual estimated burden is 750 hours.

One agency commented that the proposed requirement that official statements from the Veterans' Administration (VA) used to document service-connected disabilities be dated within the last 10 years rather than dated 1991 or later, as OPM proposes. We have not adopted this suggested change because VA has informed OPM that any VA letter issued after 1991 documenting a service-connected disability is proof of a permanent disability unless the letter specifically states that the disability is temporary. The 10 year requirement suggested by the agency is not consistent with current VA policy regarding its documentation and may disqualify veterans who received VA letters more than 10 years before the effective date of the SF 15 changes but after 1991.

For copies of this proposal, contact Mary Beth Smith-Toomey on (202) 606-8358, FAX (202) 418-3251 or e-mail to mbtoomey@opm.gov. Please be sure to include a mailing address with your request.

DATES: We will consider comments received on or before March 15, 2004.

ADDRESSES: Send or deliver written comments to:

Leah M. Meisel, Deputy Associate Director for Talent and Capacity Policy, U.S. Office of Personnel Management, 1900 E Street, NW, Room 6551, Washington, DC 20415

and

Joseph F. Lackey, OPM Desk Officer, Office of Information & Regulatory Affairs, Office of Management and Budget, New Executive Office Building, NW, Room 10235, Washington, DC 20503.

Office of Personnel Management.
Kay Coles James,
Director.

[FR Doc. 04-3253 Filed 2-12-04; 8:45 am]

BILLING CODE 6325-39-P